DEPARTMENT OF HEALTH AND HUMAN SERVICES

Centers for Disease Control and Prevention

[60Day-05BK]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call (404) 371-5976 or send comments to Sandi Gambescia, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Survey of Ambulatory Surgery (OMB No. 0920-0334)—Reinstatement—National Center for Health Statistics (NCHS), Centers for Disease Control and Prevention (CDC).

The National Survey of Ambulatory Surgery (NSAS) was previously conducted by the CDC National Center for Health Statistics from 1994 through 1996. It is the principal source of data on ambulatory surgery center (ASC) services in the United States. It complements surgery data obtained in the NCHS National Hospital Discharge Survey (NHDS) OMB No. 0920-0212, which provides annual data concerning the nation's use of inpatient medical and surgical care provided in short-stay, non-Federal hospitals. The NSAS is a national probability sample survey of ambulatory surgery visits in hospitals and freestanding ambulatory surgery centers. It has been the benchmark against which special programmatic data sources are compared.

Data for the NSAS will be collected annually beginning in 2006 from a nationally representative sample of hospitals and freestanding ambulatory surgery centers. The hospital universe includes noninstitutional hospitals exclusive of Federal, military, and Department of Veterans Affairs hospitals located in the 50 States and the District of Columbia. The universe of freestanding facilities includes the freestanding ambulatory surgery centers licensed by states and/or certified as ambulatory surgery centers for Medicare reimbursement. As in the earlier survey, facilities specializing in dentistry, podiatry, abortion, family planning or birthing will be excluded. As with previous years, the data items which are abstracted from medical records are the basic core variables from the Uniform Hospital Discharge Data Set (UHDDS) as well as surgery times, total charges and information on anesthesia. There are no costs to respondents except for their time to participate in the survey.

Annualized Burden Table:

Respondents | Number of respondents | Number of responses/respondent | Avg. burden/response (in hrs.) | Total burden hours
Induction¹ | 227 | 1 | 90/60 | 340.5
Out-of-scope verification | 150 | 1 | 4/60 | 10
Sample Listing Sheet:
ASC Personnel | 224 | 12 | 30/60 | 1,344
Census Personnel | 264 | 12 | 0 | 0
Medical Abstract:
ASC Personnel | 324 | 250 | 12/60 | 16,200
Census Personnel | 164 | 250 | 2/60 | 1,367
Annual Update | 488 | 1 | 5/60 | 41
Quality Control | 245 | 20 | 2/60 | 163
Total |  |  |  | 19,465.5
¹ The induction of 600 facilities takes place in the first year and 40 each in subsequent years but is averaged over 3 years.

Dated: March 1, 2005.
Betsey Dunaway,
Acting Reports Clearance Officer, Office of the Chief Science Officer, Centers for Disease Control and Prevention.

[FR Doc. 05-4687 Filed 3-9-05; 8:45 am]

BILLING CODE 4163-18-P